DEPARTMENT OF ENERGY

Federal Energy Regulatory Commission

[Docket No. RP03-41-001]

PG&E Gas Transmission, Northwest Corporation; Notice Compliance Filing

February 4, 2003.

Take notice that on January 29, 2003, PG&E Gas Transmission, Northwest Corporation (GTN) tendered for filing supporting documentation regarding its shippers' creditworthiness requirements in compliance with the Commission's January 24, 2003. Order on Complaint.

GTN states that a copy of this filing has been served upon its customers and interested state regulatory commissions.

Any person desiring to protest said filing should file a protest with the Federal Energy Regulatory Commission, 888 First Street, NE., Washington, DC 20426, in accordance with Section 385.211 of the Commission's Rules and Regulations. All such protests must be filed on or before the comment date. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: February 11, 2003.

Magalie R. Salas,
Secretary.

[FR Doc. 03-3153 Filed 2-7-03; 8:45 am]

BILLING CODE 6717-01-P